DEPARTMENT OF THE INTERIOR

Bureau of Land Management

[LLORB00000.L17110000.PH0000.LXSSH1060000.16XL1109AF; HAG 16-0107]

Steens Mountain Advisory Council Public Meeting

AGENCY: Bureau of Land Management, Interior.

ACTION: Notice of public meeting.

SUMMARY: In accordance with the Federal Land Policy and Management Act and the Federal Advisory Committee Act of 1972, and the U.S. Department of the Interior, Bureau of Land Management (BLM), the Steens Mountain Advisory Council (SMAC) will meet as indicated below:

DATES: April 28, 2016 from 10 a.m. to 4 p.m. and April 29, 2016 from 8:30 a.m. to 2 p.m., at the Hilton Garden Inn, 425 SW. Bluff Drive, Bend, Oregon. Daily sessions may end early if all business items are accomplished ahead of schedule, or go longer if discussions warrant more time.

FOR FURTHER INFORMATION CONTACT: Tara Thissell, Public Affairs Specialist, BLM Burns District Office, 28910 Highway 20 West, Hines, Oregon 97738, (541) 573-4519, or email tthissell@blm.gov. Persons who use a telecommunications device for the deaf (TDD) may call the Federal Information Relay Service (FIRS) at 1(800) 877-8339 to contact the above individual during normal business hours. The FIRS is available 24 hours a day, 7 days a week, to leave a message or question with the above individual. You will receive a reply during normal business hours.

SUPPLEMENTARY INFORMATION: The SMAC was initiated August 14, 2001, pursuant to the Steens Mountain Cooperative Management and Protection Act of 2000 (Pub. L. 106-399). The SMAC provides representative counsel and advice to the BLM regarding new and unique approaches to management of the land within the bounds of the Steens Mountain Cooperative Management and Protection Area, recommends cooperative programs and incentives for landscape management that meet human needs, and advises the BLM on maintenance and improvement of the ecological and economic integrity of the area. Agenda items for April 28-29, 2016 session include: Updates from the Designated Federal Official and the Andrews/Steens Resource Area Field Manager; discussions regarding projects for the Steens Mountain Comprehensive Recreation Plan, inholder access, and fencing in the No Livestock Grazing Area; and regular business items such as approving the previous meeting's minutes, member round-table, and planning the next meeting's agenda. Any other matters that may reasonably come before the SMAC may also be addressed. A public comment period is available both days. Unless otherwise approved by the SMAC Chair, the public comment period will last no longer than 30 minutes, and each speaker may address the SMAC for a maximum of five minutes. The public is welcome to attend all sessions, including the field tour, but must provide personal transportation.

Rhonda Karges,
Andrews/Steens Resource Area Field Manager.

[FR Doc. 2016-07047 Filed 3-28-16; 8:45 am]

BILLING CODE 4310-33-P